ENVIRONMENTAL PROTECTION AGENCY

[OPP-2004-0376; FRL-7687-2]

The Association of American Pesticide Control Officials/State FIFRA Issues Research and Evaluation; Notice of Public Meeting

AGENCY: Environmental Protection Agency(EPA).

ACTION: Notice.

SUMMARY: The Association of American Pesticide Control Officials (AAPCO)/State FIFRA Issues Research and Evaluation Group (SFIREG) will hold a 2-day meeting, beginning on December 6, 2004, and ending December 7, 2004. This notice announces the location and times for the meeting and sets forth the tentative agenda topics.

DATES: The meeting will be held on Monday, December 6, 2004, from 8:30 a.m. to 5 p.m., and on Tuesday, December 7, 2004, from 8:30 a.m. to noon.

ADDRESSES: The meeting will be held at Doubletree Hotel, 300 Army/Navy Dr., Arlington, VA.

FOR FURTHER INFORMATION CONTACT: Georgia A. McDuffie, Field and External Affairs Division (7506C), Office of Pesticide Programs, Environmental Protection Agency, 1200 Pennsylvania Ave., NW., Washington, DC 20460-001; telephone number: (703) 605-0195; fax number: (703) 308-1850; e-mail address: mcduffie.georgia@epa.gov or Philip H. Gray, SFIREG Executive Secretary, P.O. Box 1249, Hardwick, VT 05843-1249; telephone number: (802) 472-6956; fax (802) 472-6957; e-mail address: aapco@plainfield.bypass.com.

SUPPLEMENTARY INFORMATION:

I. General Information

A. Does this Action Apply to Me?

You may be potentially affected by this action if you are interested in the SFIREG information exchange relationship with EPA regarding important issues related to human health, environmental exposure to pesticides, and insight into EPA's decisionmaking process. Potentially affected entities may include, but are not limited to those persons who are or may be required to conduct testing of chemical substances under the Federal Food, Drug and Cosmetic Act (FFDCA), or the Federal Insecticide, Fungicide, and Rodenticide Act (FIFRA). Since other entities may also be interested, the Agency has not attempted to describe all the specific entities that may be affected by this action. If you have any questions regarding the applicability of this action to a particular entity, consult the person listed under FOR FURTHER INFORMATION CONTACT.

B. How Can I Get Copies of this Document and Other Related Information?

1. Docket. EPA has established an official public docket for this action under docket identification (ID) number OPP-2004-0376. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.B.1. Once in the system, select “search,” then key in the appropriate docket ID number.

II. Tentative Agenda

1. Update from the Counselor to the Administrator for Agricultural Policy

2. Update on EPA's Role in Homeland Security

3. Implementation of EPA-SFIREG Registration Process (Review of the SOP)

4. CBI: Possible model for state statute

5. Disposal: Next Steps

6. Atrazine Relabeling Update

7. Performance Measures

8. Endangered Species: Next Steps

9. Container Management Update

10. Report on Agronomic Stewardship Alliance

11. Inspector Credentials Update

12. California Senate Bill 391 Update

13. Plant-Pesticide Incorporated Protectants Update

14. Issue Paper Review Process

15. Office of Pesticide Program and Office Enforcement and Compliance Assurance updates

16. Pesticide & Operations Management and Water Quality & Pesticide Disposal Committees Reports

17. Region Reports

List of Subjects

Environmental protection, Pesticides and pests.

Dated: November 1, 2004.
William R. Diamond,
Director, Field and External Affairs Division, Office of Pesticide Programs.

[FR Doc. 04-25097 Filed 11-9-04; 8:45 am]

BILLING CODE 6560-50-S